DEPARTMENT OF DEFENSE

Department of the Navy

32 CFR Part 700

[Docket ID: USN-2019-HQ-0005]

RIN 0703-AB06

United States Navy Regulations and Official Records

AGENCY: Department of the Navy, Department of Defense.

ACTION: Final rule.

SUMMARY: This final rule removes the Code of Federal Regulations (CFR) part concerning United States Navy Regulations (NAVREGS) and Official Records. The NAVREGS are not required to be published in the CFR because they do not apply to or impact the public.

DATES: This rule is effective on March 27, 2019.

FOR FURTHER INFORMATION CONTACT: Lieutenant Damon Burman at 703-614-5783.

SUPPLEMENTARY INFORMATION: The NAVREGS are issued by the Secretary of the Navy under 10 U.S.C. 6011 and delineate the duties, responsibilities, authorities, distinctions, and relationships between various commands, officials, and individuals within the Department of the Navy (DON). The NAVREGS are not applicable to, and do not impact, the public. Therefore, they are not required to be published in the CFR. Nevertheless, a current version of the NAVREGS is maintained on and available to the public for download from the DON Issuances website, https://doni.documentservices.dla.mil/default.aspx.

It has been determined that publication of this CFR part removal for public comment is impracticable, unnecessary, and contrary to public interest since it based upon removing internal DON information.

This rule is not significant under Executive Order (E.O.) 12866, “Regulatory Planning and Review.” Therefore, E.O. 13771, “Reducing Regulation and Controlling Regulatory Costs” does not apply.

List of Subjects in 32 CFR Part 700

Coast Guard, Military personnel, Organization and functions (Government agencies), Reporting and recordkeeping requirements.

PART 700—[REMOVED]

Accordingly, by authority of 5 U.S.C. 301, 32 CFR part 700 is removed.

Dated: March 22, 2019.
M.S. Werner,
Commander, Judge Advocate General's Corps, U.S. Navy, Federal Register Liaison Officer.

[FR Doc. 2019-05820 Filed 3-26-19; 8:45 am]

BILLING CODE 3810-FF-P